DEPARTMENT OF AGRICULTURE

Submission for OMB Review; Comment Request

November 8, 2021,

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 15, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: 7 CFR 1951-R, Rural Development Loan Servicing.

OMB Control Number: 0570-0015.

Summary of Collection: The Rural Development (RD) Loan Servicing was legislated in 1985 under Section 1323 of the Food and Security Act of 1985. This action is needed to implement the provision of Section 407 of the Health and Human Services Act of 1986, which amended Section 1323 of the Food and Security Act of 1985. Subpart R of 7 CFR part 1951 contains regulations for servicing and liquidating loans made by Rural Development under the Intermediary Relending Program (IRP) and the Rural Microentrepreneur Assistance Program (RMAP) to eligible intermediaries and applies to ultimate recipients and other involved parties.

Need and Use of the Information: Rural Development has determined that the financial reporting requirements are necessary to provide the Agency with current information to monitor the program, to make various reporting requirements to Congress, and for program innovation and expansion under the Government's Performance Review.

Servicing of the IRP is administered by RBCS in Washington, DC, which will be the primary user of the information collected, which is vital to RBS for prudent loan servicing, credit decisions, and reasonable program monitoring.

Description of Respondents: Non-profit corporations, public agencies, Tribal councils, and cooperatives.

Number of Respondents: 475.

Frequency of Responses: Reporting: On occasion; Quarterly; Semi-annually; Annually.

Total Burden Hours: 11,878.

Levi S. Harrell,
Departmental Information Collection Clearance Officer.

[FR Doc. 2021-24741 Filed 11-12-21; 8:45 am]

BILLING CODE 3410-XY-P